ENVIRONMENTAL PROTECTION AGENCY

[EPA-HQ-OPP-2006-0477; FRL-8070-5]

Pesticide Program Dialogue Committee; Notice of Public Meetings

AGENCY: Environmental Protection Agency (EPA).

ACTION: Notice.

SUMMARY: Pursuant to the Federal Advisory Committee Act, EPA gives notice of a public meeting of the Pesticide Program Dialogue Committee (PPDC) on June 15, 2006. In addition, the PPDC Work Groups will meet on June 13-14, 2006, following the schedule described under DATES. A draft agenda has been developed and is posted on EPA's web site. Agenda topics will include a report from each of the PPDC Work Groups: Spray Drift/NPDES; Consumer Pesticide Label Improvements; Performance Measures; Worker Safety; and Pesticide Registration Improvement Act Process Improvements. The agenda will also include program updates on Registration and Reregistration/Tolerance Reassessment; a presentation on Impaired Water Body Data Pilot Program with the Office of Water; a brief update on human studies; and a discussion of the Enhancements being made to the Incident Data Base.

DATES: The PPDC meeting will be held on Thursday, June 15, 2006, from 9 a.m. to 5:30 p.m.

1. The PPDC Spray Drift/NPDES Work Group will meet on Tuesday, June 13, 2006, from 9 a.m. to 5 p.m.

2. On Wednesday morning, June 14, 2006, the PPDC Worker Safety Work Group will meet from 9 a.m. to noon, and the PPDC Performance Measures Work Group will also meet from 9 a.m. to noon.

3. On Wednesday afternoon, June 14, 2006, the PPDC Consumer Pesticide Label Improvement Work Group will meet from 1 p.m. to 4 p.m. and the PPDC PRIA Process Improvement Work Group will also meet from 1 p.m. to 4 p.m.

ADDRESSES: All of the meetings will be held in the Conference Center on the lobby level at EPA's location at 1 Potomac Yard South, 2999 Crystal Drive, Arlington, VA. This location is approximately a half mile from the Crystal City Metro Station.

FOR FURTHER INFORMATION CONTACT: Margie Fehrenbach, Office of Pesticide Programs (7501P), Environmental Protection Agency, 1200 Pennsylvania Ave., NW., Washington, DC 20460-0001; telephone number: (703) 308-4775; fax number: (703) 308-4776; e-mail address: fehrenbach.margie@epa.gov.

For information on facilities or services for the handicapped or to request special assistance for the handicapped at the meetings, contact the Designated Federal Officer, Margie Fehrenbach, at (703) 308-4775 as soon as possible.

SUPPLEMENTARY INFORMATION:

I. General Information

A. Does this Action Apply to Me?

This action is directed to the public in general, and may be of particular interest to persons who work in agricultural settings or persons who are concerned about implementation of the Federal Insecticide, Fungicide, and Rodenticide Act (FIFRA); Federal Food, Drug, and Cosmetic Act (FFDCA); and the amendments to both of these major pesticide laws by the Food Quality Protection Act (FQPA) of 1996. Potentially affected entities may include, but are not limited to: Agricultural workers and farmers; pesticide industry and trade associations; environmental, consumer, and farmworker groups; pesticide users and growers; pest consultants; State, local and Tribal governments; academia; public health organizations; food processors; and the public. If you have questions regarding the applicability of this action to a particular entity, consult the person listed under FOR FURTHER INFORMATION CONTACT.

B. How Can I Get Copies of this Document and Other Related Information?

1. Docket. EPA has established an official public docket for this action under docket identification (ID) number EPA-HQ-OPP-2006-0477. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), 2777 South Crystal Drive (7502P), Room 4400, Arlington, VA. This docket facility is open from 8:30 a.m. to 4 p.m., Monday through Friday, excluding legal holidays. The docket telephone number is (703) 305-5805.

2. Electronic access. You may access this Federal Register document electronically through the EPA Internet under theFederal Register listings at http://www.regulations.gov/.

A draft agenda has been developed and is posted on EPA's web site at http://www.epa.gov/pesticides/ppdc/.

II. Background

The Office of Pesticide Programs (OPP) is entrusted with responsibility to help ensure the safety of the American food supply, the education and protection from unreasonable risk of those who apply or are exposed to pesticides occupationally or through use of products, and general protection of the environment and special ecosystems from potential risks posed by pesticides.

The Charter for the Environmental Protection Agency's Pesticide Program Dialogue Committee (PPDC) was established under the Federal Advisory Committee Act (FACA), Public Law 92-463, in September 1995, and has been renewed every 2 years since that time. PPDC's Charter was renewed November 5, 2005, for a 2-year period. The purpose of PPDC is to provide advice and recommendations to the EPA Administrator on issues associated with pesticide regulatory development and reform initiatives, evolving public policy and program implementation issues, and science issues associated with evaluating and reducing risks from use of pesticides. It is determined that PPDC is in the public interest in connection with the performance of duties imposed on the Agency by law. The following sectors are represented on the PPDC: Pesticide industry and trade associations; environmental/public interest, consumer, and animal rights groups; farm worker organizations; pesticide user, grower, and commodity groups; Federal and State/local/Tribal governments; the general public; academia; and public health organizations.

Copies of the PPDC Charter are filed with appropriate committees of Congress and the Library of Congress and are available upon request.

III. How Can I Request to Participate in this Meeting?

PPDC meetings are open to the public and seating is available on a first-come basis. Persons interested in attending do not need to register in advance of the meeting.

List of Subjects

Environmental protection, Agricultural workers, Agriculture, Chemicals, Foods, Pesticides and pests, Public health.

Dated: May 22, 2006.
James Jones,
Director, Office of Pesticide Programs.

[FR Doc. E6-8671 Filed 6-1-06; 8:45 am]

BILLING CODE 6560-50-S